DEPARTMENT OF HEALTH AND HUMAN SERVICES

Office of the Secretary

Office of Financial Resources; Statement of Organization, Functions, and Delegations of Authority

Part A, Office of the Secretary, Statement of Organization, Functions and Delegations of Authority for the Department of Health and Human Services (HHS) is being amended as Chapter AM, Office of Financial Resources, as last amended at 76 FR 69741-42, dated November 9, 2011, 74 FR 57679-82, dated November 9, 2009, and 74 FR 18238-39, dated April 21, 2009. This reorganization will eliminate the Office of Recovery Act Coordination (AMV) within the Office of Financial Resources (ASFR)) and establish a new Office of Executive Program Information in ASFR to analyze HHS data on the status of HHS programs and their operations and present it to HHS executives to inform program and policy decisions. This reorganization will make the following changes under Chapter AM, Office of Financial Resources:

A. Under Section AM.10 Organization, delete in its entirety and replace with the following:

Section AM.10 Organization: The Office of Financial Resources is headed by the Assistant Secretary for Financial Resources (ASFR). The Assistant Secretary for Financial Resources is the Departmental Chief Financial Officer (CFO), Chief Acquisition Officer (CAO) and Performance Improvement Officer (PIO), and reports to the Secretary. The office consists of the following components:

• Immediate Office of the Assistant Secretary (AM).

• Office of Budget (AML).

• Office of Finance (AMS).

• Office of Grants and Acquisition Policy and Accountability (AMT).

• Office of Executive Program Information (AMW).

B. Under Section AM.20 Functions, delete in its entirety Chapter AMV and add the following new Chapter AMW, Office of Executive Program Information

Section AMW.00 Mission

The Office of Executive Program Information (OEPI) is responsible for analyzing HHS data on the status of HHS programs and their operations and presenting it to HHS executives to inform program and policy decisions. The primary audience for these analyses is HHS executives including HHS senior leadership, both in the Office of the Secretary and the agencies. The information requirements of ASFR executives are a priority focus because of their policy role in resource allocation and decisions affecting financial, grants and procurement processes.

OEPI collaborates with ASFR offices and HHS agencies to obtain the data elements needed to meet HHS leadership's management information expectations and the business requirements of ASFR Offices and their customers in HHS OPDIVS. OEPI convenes ASFR Offices and HHS OPDIVS to develop procedures for obtaining quality data needed to assess HHS operations, and the business requirements of ASFR Offices and their customers in HHS OPDIVS.

Section AMW.10 Organization

The Office of Executive Program Information is headed by a Deputy Assistant Secretary for Executive Program Information, who reports to the Assistant Secretary for Financial Resources. OEPI includes the following components:

• Immediate Office of Executive Program Information (AMW).

• Division of Health Insurance, Regulation, and Science Programs (AMW1).

• Division of Health and Social Service Programs (AMW2).

Section AMW.20 Function

1. Immediate Office of Executive Program Information (AMW)

The Immediate Office of Executive Program Information (OEPI) is responsible for support and coordination of the Office of Executive Program Information components in the management of their responsibilities.

2. Division of Health Insurance, Regulation, and Science Programs (AMW1)

The Division of Health Insurance, Regulation, and Science Programs is responsible for establishing systems and procedures for analyzing data on the status of HHS health insurance, regulation, and science programs and their operations, conducting analysis, and presenting that analysis to HHS executives to inform program and policy decisions.

3. Division of Health and Social Service Programs (AMW2)

The Division of Health and Social Service Programs is responsible for establishing systems and procedures for analyzing data on the status of HHS health and social services programs and their operations, conducting analysis, and presenting that analysis to HHS executives to inform program and policy decisions.

Dated: March 22, 2012.
E.J. Holland, Jr.,
Assistant Secretary for Administration.

[FR Doc. 2012-7807 Filed 3-30-12; 8:45 am]

BILLING CODE 4150- 24-P